DEPARTMENT OF THE TREASURY

5 CFR Chapter XXI

12 CFR Chapters I, V, XV, and XVIII

17 CFR Chapter IV

19 CFR Chapter I

26 CFR Chapter I

27 CFR Chapter I

31 CFR Subtitle A and Chapters I, II, IV Through VIII, IX, and X

48 CFR Chapter 10

Preliminary Plan for Retrospective Analysis of Existing Rules; Notice of Availability

AGENCY: Department of the Treasury.

ACTION: Notice of availability; request for comments.

SUMMARY: The Department of the Treasury announces the availability of its Preliminary Plan for Retrospective Analysis of Existing Rules and invites interested members of the public to submit comments on the plan. Issued pursuant to Executive Order 13563, “Improving Regulation and Regulatory Review,” Treasury developed its preliminary plan to facilitate the review of existing regulations through the use of retrospective review.

DATES: Comment due date: July 25, 2011.

ADDRESSES: Interested persons are invited to submit comments on all aspects of the preliminary plan. You may submit comments, identified by docket number TREAS-DO-2011-0003 through the Federal eRulemaking Portal: http://www.regulations.gov. Follow the instructions for submitting comments.

Electronic Submission of Comments. Interested persons must submit comments electronically through the Federal eRulemaking Portal at http://www.regulations.gov. Electronic submission of comments allows the commenter maximum time to prepare and submit a comment, ensures timely receipt, and enables the Department to make them available to the public. Comments submitted electronically through the http://www.regulations.gov Web site can be viewed by other commenters and interested members of the public.

Public Inspection of Comments. Properly submitted comments will be available for inspection and downloading at http://www.regulations.gov.

Additional Instructions. In general, comments received, including attachments and other supporting materials, are part of the public record and are immediately available to the public. Do not include any information in your comment or supporting materials that you consider confidential or inappropriate for public disclosure.

FOR FURTHER INFORMATION CONTACT: Office of the Assistant General Counsel for General Law, Ethics, and Regulation at guidance@treasury.gov.

SUPPLEMENTARY INFORMATION: On January 18, 2011, the President issued Executive Order 13563, “Improving Regulation and Regulatory Review,” to ensure that federal regulations seek less burdensome means to achieve policy goals and that agencies give careful consideration to the benefits and costs of those regulations. The Executive Order requires each agency to develop a preliminary plan to periodically review its existing significant regulations to determine whether any regulations should be modified, streamlined, expanded, or repealed so as to make the agency's regulatory program more effective or less burdensome in achieving its regulatory objectives.

On March 30, 2011 (76 FR 17572), the Department published a notice and request for comment in the Federal Register that invited input from the public in developing Treasury's preliminary plan and eleven comments were received. On June 1, 2011, the Department posted the preliminary plan on its Open Government Web site, http://www.treasury.gov/open and on http://www.regulations.gov, and is requesting public comments on the plan. Comments may be submitted on or before July 15, 2011.

Dated: June 28, 2011.
George W. Madison,
General Counsel.

[FR Doc. 2011-16865 Filed 7-5-11; 8:45 am]

BILLING CODE 4810-25-P